DEPARTMENT OF VETERANS AFFAIRS

Veterans' Advisory Committee on Education; Notice of Meeting

The Department of Veterans Affairs gives notice under Public Law 92-463 (Federal Advisory Committee Act) that the Veterans' Advisory Committee on Education will meet on October 25-26, 2007 in the main conference room (2nd floor) at the Paralyzed Veterans of America National Headquarters, 801 18th Street, NW., Washington, DC. On October 25, the session will begin at 8 a.m. and end at 4:15 p.m. On October 26, the session will begin at 8:30 a.m. and end at 12 noon. The meeting is open to the public.

The purpose of the Committee is to advise the Secretary of Veterans Affairs on the administration of education and training programs for veterans, servicepersons, reservists, and dependents of veterans under Chapters 30, 32, 35, and 36 of title 38, and Chapter 1606 of title 10, United States Code.

On October 25, the meeting will begin with opening remarks and an overview by Mr. James Bombard, Committee Chair. The agenda for this meeting will include discussions on pending legislation, a presentation by guest speaker Mr. Allison Jones, Vice Chancellor of California State University, an overview of licensing and certification opportunities, and discussion concerning outreach efforts to veterans before their enrollment in higher education programs. Oral statements will be heard at 4 p.m. on October 25. On October 26, the Committee will review and summarize issues addressed during this meeting.

Interested persons may file written statements to the Committee before the meeting, or within 10 days after the meeting, with Mr. Salminio Garner, Designated Federal Officer, Department of Veterans Affairs. Veterans Benefits Administration (225B), 810 Vermont Avenue, NW., Washington, DC 20420. Any member of the public wishing to attend the meeting should contact Mr. Salminio Garner or Andrea Jones at (202) 461-9832.

Dated: September 26, 2007.
By Direction of the Secretary
E. Philip Riggin,
Committee Management Officer.

[FR Doc. 07-4848 Filed 10-1-07; 8:45 am]

BILLING CODE 8320-01-M